DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Privacy and Confidentiality.

Time and Date:

1:00 p.m.-5:30 p.m. August 21, 2001

8:30 a.m.-5:30 p.m. August 22, 2001

8:30 a.m.-12:00 p.m. August 23, 2001

Place: Hubert H. Humphrey Building, Room 705A, 200 Independence Avenue SW., Washington, DC 20201.

Status: Open.

Background: The National Committee on Vital and Health Statistics is the statutory advisory body to the Secretary of Health and Human Services in the area of health data, statistics, and health information policy. It is established by section 306(k) of the Public Health Service Act (42 U.S.C. 242k(k)), and its mandate includes advising the Secretary on the implementation of the Administrative Simplification provisions of the Health Insurance Portability and Accountability Act of 1996 (HIPAA), Pub. L. No. 104-191).

Its Subcommittee on Privacy and Confidentiality monitors major developments in health information privacy and confidentiality on behalf of the full Committee and makes recommendations to the full Committee and assists the Department on implementation of the health information privacy provisions of HIPAA.

Purpose: This meeting of the Subcommittee on Privacy and Confidentiality will be conducted as a hearing to receive information from the public on the implementation of the regulation “Standards for Privacy of Individually Identifiable Health Information” (45 CFR parts 160 and 164), promulgated under the Health Insurance Portability and Accountability Act of 1996.

The regulation and further information about it can be found on the web site of the Office for Civil Rights, at http://www.hhs.gov/ocr/hipaa/. The regulation has been in effect since April 14, 2001. Most entities covered by the regulation must come into compliance by April 14, 2003, and many are beginning the process of implementing it.

At this hearing those who provide health care, those who pay for it (such as health plans), and those who use health information (such as the research and public health communities) and members of the public will have an opportunity to address specific issues pertaining to the implementation of the regulation.

The hearing will seek information about practical issues in implementation of the regulation, and suggestions about possible solutions for such issues. The Subcommittee particularly seeks detailed information about the following four issues: (1) The regulation's requirements for consent in order to use information for treatment, payment, and health care operations, (2) the regulation's requirements that those covered by it must make reasonable efforts to limit use and disclosure of, and requests for, protected health information to the minimum necessary to accomplish the intended purpose of the use, disclosure, or request; (3) the effects of the regulation on research (both research in which treatment is given and records-based research), and (4) the regulation's provisions for use and disclosure of health information for marketing.

The format will include one or more invited panels on each of the issues and time for questions and discussion. The Subcommittee particularly seeks focused, detailed analyses and description, with examples, of the effect the regulation is expected to have, based on early implementation efforts and preliminary assessments of impact.

In addition to the panels that will be invited to address these issues, members of the public who would like to make a brief (3 minutes or less) oral comment on one or more of the specified issues during the hearing will be placed on the agenda as time permits. To be included on the agenda, please contact Marietta Rawlinson (301) 458-4524, by e-mail at mrawlinson@cdc.gov, or postal address at NCHS, Presidential Building, Room 1100, 6525 Belcrest Road, Hyattsville, Maryland 20782 by August 7, 2001. Persons wishing to submit written testimony only (no more than 4-5 double-spaced typewritten pages) should endeavor to submit it by that date. Unfilled slots for oral testimony will also be filled on-site as time permits. Please consult Ms. Rawlinson for further information about these arrangements. Additional information about the hearing will be provided on the NCVHS website at http://www.ncvhs.hhs.gov shortly before the hearing date.

Contact Person For More Information: Substantive program information may be obtained from Gail Horlick, M.S.W., J.D., Lead Staff Person for the NCVHS Subcommittee on Privacy and Confidentiality, Office of Research and Demonstrations, Program Analyst, National Immunization Program, Centers for Disease Control and Prevention, 1600 Clifton Road, NE, Mailstop E-62, Atlanta, Georgia 30333, telephone (404) 639-8345; or Marjorie S. Greenberg, Executive Secretary, NCVHS, NCHS, CDC, Room 1100, Presidential Building, 6525 Belcrest Road, Hyattsville, Maryland 20782, telephone (301) 458-4245.

Information about the committee, including summaries of past meetings and a roster of committee members, is available on the Committee's website at http://www.ncvhs.hhs.gov.

Dated: July 23, 2001.
James Scanlon,
Director, Division of Data Policy, Office of the Assistant Secretary for Planning and Evaluation.

[FR Doc. 01-19238 Filed 8-1-01; 8:45 am]

BILLING CODE 4151-05-M